Title 3—

The President

Proclamation 8988 of May 31, 2013

Great Outdoors Month, 2013

By the President of the United States of America

A Proclamation

The United States is blessed with a wealth of natural diversity that remains at the heart of who we are as a people. From breathtaking seascapes to the limitless stretch of the Great Plains, our natural surroundings animate the American spirit, fuel discovery and innovation, and offer unparalleled opportunities for recreation and learning. During Great Outdoors Month, we celebrate the land entrusted to us by our forebears and resolve to pass it on safely to future generations.

We owe our heritage to the work of visionary citizens who believed that our obligations as Americans are not just to ourselves, but to all posterity. It is up to all of us to carry that legacy forward in the 21st century—which is why I was proud to launch the America's Great Outdoors Initiative to bring innovative strategies to today's conservation challenges. Alongside leaders in government and the private sector, we are taking action to expand outdoor opportunities in urban areas, promote outdoor recreation, protect our landscapes, and connect the next generation to our natural treasures. And by tapping into the wisdom of concerned citizens from every corner of our country, we are finding new solutions that respond to the priorities of the American people.

At a time when too many of our young people find themselves in sedentary routines, we need to do more to help all Americans reconnect with the outdoors. To lead the way, First Lady Michelle Obama's Let's Move Outside! initiative encourages families to get out and enjoy our beautiful country, whether at a National Park or just outside their doorstep. And through the 21st Century Conservation Service Corps, young men and women will get hands-on experience restoring our public lands and protecting our cultural heritage.

Fortunately, we do not have to choose between good environmental stewardship and economic progress because they go hand-in-hand. Smart, sustainable policies can create jobs, increase tourism, and lay the groundwork for long-term economic growth. For example, our National Travel and Tourism Strategy aims to bring more people to all of our national attractions, including our public lands and waters, and the five new National Monuments I was proud to designate earlier this year. Our natural spaces are also laboratories for scientists, inventors, and creators—Americans who sustain a tradition of innovation that makes our country the most dynamic economy on earth.

For centuries, America's great outdoors have given definition to our national character and inspired us toward bold new horizons. This month, let us reflect on those timeless gifts, and let us vow to renew them in the years to come.

NOW, THEREFORE, I, BARACK OBAMA, President of the United States of America, by virtue of the authority vested in me by the Constitution and the laws of the United States, do hereby proclaim June 2013 as Great Outdoors Month. I urge all Americans to explore the great outdoors and to uphold our Nation's legacy of conserving our lands and waters for future generations.

IN WITNESS WHEREOF, I have hereunto set my hand this thirty-first day of May, in the year of our Lord two thousand thirteen, and of the Independence of the United States of America the two hundred and thirty-seventh.

[FR Doc. 2013-13540

Filed 6-5-13; 8:45 am]

Billing code 3295-F3